DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and comment. The nature of the information collection is described as well as its expected burden. The Federal Register notice with a 60-day comment period soliciting comments on the following collection of information was published on June 21, 2002. No comments were received.

DATES: Comments must be submitted on or before October 16, 2002.

FOR FURTHER INFORMATION CONTACT: Elizabeth Gearhart, Maritime Administration, 400 Seventh Street, SW., Washington, DC 20590. Telephone 202-366-1867, FAX 202-366-7901, or e-mail: elizabeth.gearhart@marad.dot.gov. Copies of this collection can be obtained from that office.

SUPPLEMENTARY INFORMATION: Maritime Administration (MARAD).

Title: Shipbuilding Orderbook and Shipyard Employment.

OMB Control Number: 2133-0029.

Type of Request: Extension of currently approved information collection.

Affected Public: Owners of U.S. shipyards who agree to complete the requested information.

Form(s): MA-172.

Abstract: In compliance with the Merchant Marine Act of 1936, as amended, MARAD conducts this survey to obtain information from the shipbuilding and ship-repair industry to be used primarily to determine if an adequate mobilization base exists for the national defense and for use in a national emergency.

Annual Estimated Burden Hours: 400 hours.

ADDRESSES: Send comments to the Office of Information and Regulatory Affairs, Office of Management and Budget, 725 17th Street, NW, Washington, DC 20503, Attention MARAD Desk Officer.

Comments are invited on: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, DC on September 9, 2002.
Joel C. Richard,
Secretary, Maritime Administration.

[FR Doc. 02-23487 Filed 9-13-02; 8:45 am]

BILLING CODE 4910-81-P